DEPARTMENT OF THE INTERIOR

Bureau of Reclamation

[RR03510000, XXXR0680R1, RR171260120019400]

Notice of Intent To Prepare an Environmental Impact Report/Environmental Impact Statement for the Pure Water San Diego Program, North City Project, San Diego County, California

AGENCY: Bureau of Reclamation, Interior.

ACTION: Notice.

SUMMARY: The Bureau of Reclamation and the City of San Diego will prepare a joint Environmental Impact Report/Environmental Impact Statement to evaluate the effects of the North City Project, the first phase of the Pure Water San Diego Program (Pure Water Program). The Pure Water Program is a water and wastewater facilities plan to produce potable water from recycled water.

Interested parties are invited to comment on the scope of the environmental analysis and the proposed alternatives. Two public meetings are scheduled.

DATES: Please submit written comments on or before September 6, 2016.

Public meeting dates:

1. August 23, 2016, 6 p.m. to 7:30 p.m., Scripps Miramar Ranch Public Library.

2. August 25, 2016, 6:30 p.m. to 8 p.m., City of San Diego Public Utilities Department.

ADDRESSES: Send written comments to Doug McPherson, Southern California Area Office, Bureau of Reclamation, 27708 Jefferson Avenue, Suite 202, Temecula, CA 92590; or email to dmcpherson@usbr.gov.

Public meeting locations:

1. Scripps Miramar Ranch Public Library, 10301 Scripps Lake Drive, San Diego, CA.

2. City of San Diego Public Utilities Department, 9192 Topaz Way, San Diego, CA.

FOR FURTHER INFORMATION CONTACT: Doug McPherson, Southern California Area Office general telephone number 951-695-5310; or email dmcpherson@usbr.gov.

SUPPLEMENTARY INFORMATION: This notice is provided pursuant to the National Environmental Policy Act (NEPA) (42 U.S.C. 4332(2)(c)), and Department of the Interior regulations for implementation of NEPA (43 CFR part 46).

North City Project

The proposed project will expand the existing North City Water Reclamation Plant and construct an adjacent Advanced Water Purification Facility with a purified water pipeline to Miramar Reservoir. A project alternative would install a longer pipeline to deliver product water to the larger San Vicente reservoir.

Other project components include: A new pump station and forcemain to deliver additional wastewater to the North City Water Reclamation Plant, a brine discharge pipeline, and upgrades to the existing Metropolitan Biosolids Center to accommodate additional biosolids from the increased treatment capacity at the North City Water Reclamation Plant.

A new electrical transmission line is proposed, connecting the North City Water Reclamation Plant to the future cogeneration facility at the Metropolitan Biosolids Center to deliver power for North City Project components. The electrical transmission line would cross Marine Corps Air Station Miramar and will require approval by the United States Marine Corps.

Background

On average, eighty-five percent (85%) of the City's water supply is imported from the Colorado River and northern California. This reliance on imported water causes San Diego to be vulnerable to supply shortages and price increases.

With few local water supply options, the City has explored potable and non-potable reuse options of treated wastewater. In 2011, the City started operating a one million gallon per day (MGD) demonstration scale advanced water purification facility at the North City Water Reclamation Plant site and confirmed that the purified water complied with all federal and state drinking water standards.

Pure Water San Diego Program

The Pure Water Program will ultimately produce 83 MGD of locally-controlled water, recycling a valuable and limited resource that is currently discharged to the Pacific ocean. The program will be implemented in phases over a 20-year period, grouped by geographical area: North City, Central Area and South Bay.

The North City Project will produce 30 MGD of purified water and is scheduled to be operational in 2021. The Central Area and/or South Bay projects are scheduled to be completed by December 31, 2035 and will produce a combined total up to 53 MGD.

The Pure Water Program will make San Diego more water independent while providing increased protection of the ocean environment. The City made a commitment to begin implementing the Pure Water Program in their application to renew the Clean Water Act § 301(h) modified ocean discharge permit for the Point Loma Wastewater Treatment Plant (NPDES permit no. CA0107409).

Authority

Federal assistance is authorized by the Reclamation Wastewater and Groundwater Study and Facilities Act of 1992 (Title XVI of Pub. L. 102-575). Section 1612, San Diego Area Water Reclamation Program, directs the Secretary of the Interior, in cooperation with the city of San Diego, to participate in the planning, design, and construction of demonstration and permanent facilities to reclaim and reuse water in the San Diego metropolitan service area. This authority is delegated to the Bureau of Reclamation. The Federal share of the costs of the facilities shall not exceed 25 per cent of the total. Federal Funds for the operation or maintenance of the project are not authorized.

Scoping Process

The City is filing a Notice of Preparation pursuant to the California Environmental Quality Act, and will hold two public scoping meetings. To avoid duplication with State and local procedures, we plan to use the scoping process initiated by the City. The Notice of Preparation, Notice of Scoping Meetings, and a proposed Scope of Work are available at https://www.sandiego.gov/planning/programs/ceqa.

The site proposed for the Advanced Water Purification Facility contains vernal pool habitat supporting endangered species. The City is preparing a Vernal Pool Habitat Conservation Plan to comply with the Endangered Species Act.

Pipeline alignments and/or drinking water service areas may include areas of low income and minority populations. Environmental justice issues are not anticipated, but will be evaluated. No known Indian Trust Assets are associated with the proposed action.

Written comments are requested to help identify alternatives and issues that should be analyzed. Federal, State and local agencies, tribes, and the general public are invited to participate in the environmental review process.

Public Disclosure

Before including your address, phone number, email address, or other personal identifying information in your comment, you should be aware that your entire comment—including your personal identifying information—may be made publicly available at any time. While you can ask us in your comment to withhold your personal identifying information from public review, we cannot guarantee that we will be able to do so.

Dated: July 29, 2016.
Jennifer McCloskey,
Acting Regional Director, Lower Colorado Region.

[FR Doc. 2016-18616 Filed 8-4-16; 8:45 am]

BILLING CODE 4332-90-P